DEPARTMENT OF HEALTH AND HUMAN SERVICES

Food and Drug Administration

[Docket No. 2007N-0304]

Preparation for International Conference on Harmonization Meetings in Yokohama, Japan; Public Meeting; Correction

AGENCY: Food and Drug Administration, HHS.

ACTION: Notice of meeting; correction.

SUMMARY: The Food and Drug Administration (FDA) is correcting a notice that appeared in the Federal Register on August 13, 2007 (72 FR 45250). The document announced a public meeting entitled “Preparation for ICH meetings in Yokohama, Japan” to provide information and receive comments on the International Conference on Harmonization (ICH) as well as the upcoming meetings in Yokohama, Japan. The topics to be discussed are the topics for discussion at the forthcoming ICH Steering Committee Meeting. The purpose of the meeting is to solicit public input prior to the next Steering Committee and Expert Working Groups meetings in Yokohama, Japan, October 27 through November 1, 2007, at which discussion of the topics underway and the future of ICH will continue.

FOR FURTHER INFORMATION CONTACT: For information regarding this notice and the original notice: Tammie Bell, Office of the Commissioner, Food and Drug Administration, 5600 Fishers Lane, Rockville, MD 20857, e-mail: Tammie.Bell2@fda.hhs.gov, FAX: 301-827-0003.

SUPPLEMENTARY INFORMATION: In FR Doc. E7-15803, appearing on page 45250 in the Federal Register of Monday, August 13, 2007, the following correction is made:

1. On page 45250, in the third column, the second full paragraph is corrected to read “Interested persons may present data, information, or views orally or in writing, on issues pending at the public meeting. Oral presentations from the public will be scheduled between approximately 2:30 p.m. and 3 p.m. Time allotted for oral presentations may be limited to 10 minutes. Those desiring to make oral presentations should notify the contact person by October 2, 2007, and submit a brief statement of the general nature of the evidence or arguments they which to present, the names and addresses, phone number, fax, and e-mail of proposed participants, and an indication of the approximate time requested to make their presentation.”

Dated: August 20, 2007.
Jeffrey Shuren,
Assistant Commissioner for Policy.

[FR Doc. E7-16892 Filed 8-24-07; 8:45 am]

BILLING CODE 4160-01-S